DEPARTMENT OF AGRICULTURE

Submission for OMB Review; Comment Request

March 2, 2020.

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 6, 2020 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Small Meat Processor Survey.

OMB Control Number: 0583-NEW.

Summary of Collection: The Food Safety and Inspection Service (FSIS) has been delegated the authority to exercise the functions of the Secretary (7 CFR 2.18, 2.53), as specified in the Federal Meat Inspection Act (FMIA) (21 U.S.C. 601, et seq.). This statute mandates that FSIS protect the public by verifying that meat products are safe, wholesome, unadulterated, and properly labeled and packaged.

Need and Use of the Information: FSIS will collect information using a survey on small and very small meat processing plants about a draft report concerning FSIS resources available to help them achieve and maintain regulatory compliance. FSIS has entered into a Cooperative Agreement with the College of Agriculture at Oregon State University, to conduct this review for small and very small establishments. Oregon State will develop a draft report based on multiple data sources. This draft report will then be distributed to a wider audience of key stakeholders that are small plant operators. Oregon will ask those stakeholders to read the draft report and fill out a short survey to gather their feedback.

Description of Respondent: Business or other for-profit.

Number of Respondents: 300.

Frequency of Responses: On occasion.

Total Burden Hours: 98.

Ruth Brown,
Departmental Information Collection Clearance Officer.

[FR Doc. 2020-04507 Filed 3-4-20; 8:45 am]

BILLING CODE 3410-DM-P